DEPARTMENT OF TRANSPORTATION

Federal Aviation Administration

Fifth Drone Advisory Committee Meeting

AGENCY: Federal Aviation Administration (FAA), U.S. Department of Transportation.

ACTION: Fifth DAC meeting.

SUMMARY: The FAA is issuing this notice to advise the public of the Fifth DAC Meeting.

DATES: The meeting will be held on November 8, 2017, 9:00 a.m.-4:30 p.m. PST.

ADDRESSES: The meeting will be held at the Amazon Meeting Center, 2031 7th Avenue, Seattle, WA 98121.

FOR FURTHER INFORMATION CONTACT: Al Secen at asecen@rtca.org or 202-330-0647, or The RTCA Secretariat, 1150 18th Street NW., Suite 910, Washington, DC 20036, or by telephone at 202-833-9339, fax at 202-833-9434, or Web site at http://www.rtca.org.

SUPPLEMENTARY INFORMATION: Pursuant to section 10(a)(2) of the Federal Advisory Committee Act (Pub. L. 92-463, 5 U.S.C., App.), notice is hereby given of the Fifth DAC Meeting. The DAC is a component of RTCA, which is a Federal Advisory Committee. The agenda will likely include, but may not be limited to, the following:

Wednesday, November 8, 2017

• Official Statement of the Designated Federal Officer

• Welcome and Introductions

• Review of the Fourth DAC Meeting

• Approval of Minutes from the Fourth DAC Meeting

• Report from the DAC Chairman

• Update from the FAA

• Report from the DAC Subcommittee (SC) Co-Chairs

• Reports from the Co-Chairs of the DACSC Task Groups (TGs)

• Discussion of Reports from the Co-Chairs of the DACSC TGs

• Report from MITRE

• New Assignments/Agenda Topics/Other

• Closing Remarks

• Adjourn

Attendance is open to the interested public. With the approval of the chairman, members of the public may present oral statements at the meeting. Persons wishing to present statements or obtain information should contact the person listed in the FOR FURTHER INFORMATION CONTACT section. Members of the public may present a written statement to the committee at any time.

Issued in Washington, DC, on October 2, 2017.
Christopher W. Harm,
Unmanned Aircraft Systems (UAS) Stakeholder and Committee Liaison, AUS-10, UAS Integration Office, FAA.

[FR Doc. 2017-21694 Filed 10-6-17; 8:45 am]

BILLING CODE 4910-13-P